ENVIRONMENTAL PROTECTION AGENCY

[ER-FRL-9014-8]

Environmental Impact Statements; Notice of Availability

Responsible Agency: Office of Federal Activities, General Information (202) 564-7146 or http://www.epa.gov/compliance/nepa/.

Weekly receipt of Environmental Impact Statements

Filed 04/28/2014 through 05/02/2014 Pursuant to 40 CFR 1506.9.

Notice

Section 309(a) of the Clean Air Act requires that EPA make public its comments on EISs issued by other Federal agencies. EPA's comment letters on EISs are available at: http://www.epa.gov/compliance/nepa/eisdata.html.

EIS No. 20140132, Final EIS, FHWA, TX, Grand Parkway Segments H and I-1, Review Period Ends: 06/09/2014, Contact: Gregory S. Punske 512-536-5900.

EIS No. 20140133, Final EIS, FERC, LA, Cameron Liquefaction Project, Review Period Ends: 06/09/2014, Contact: Danny Laffoon 202-502-6257.

EIS No. 20140134, Draft Supplement, BPA, ID, Hooper Springs Transmission Project, Comment Period Ends: 08/07/2014, Contact: Tish Eaton 503-230-3469.

EIS No. 20140135, Draft EIS, RUS, SC, McClellanville 115 kV Transmission Project, Comment Period Ends: 06/23/2014, Contact: Lauren McGee Rayburn 202-695-2540.

EIS No. 20140136, Draft EIS, FTA, WA, Link Light Rail Operations and Maintenance Satellite Facility, Comment Period Ends: 06/23/2014, Contact: James Saxton 206-220-7954.

EIS No. 20140137, Draft Supplement, BLM, ID, Cottonwood Resource Management Plan Amendment for Domestic Sheep Grazing, Comment Period Ends: 08/07/2014, Contact: Scott Pavey 208-769-5059.

EIS No. 20140138, Final EIS, FHWA, OH, Cleveland Opportunity Corridor, Contact: Naureen Dar 614-280-6846.

Under MAP-21 section 1319, FHWA has issued a single FEIS and ROD. Therefore, the 30-day wait/review period under NEPA does not apply to this action.

EIS No. 20140139, Draft EIS, USAF, FL, Gulf Regional Airspace Strategic Initiative Landscape Initiative, Comment Period Ends: 06/23/2014, Contact: Michael Spaits 850-882-2836.

EIS No. 20140140, Draft EIS, CALTRANS, CA, Centennial Corridor Project, Comment Period Ends: 07/08/2014, Contact: Jennifer Taylor 559-445-6455.

EIS No. 20140141, Final EIS, NPS, NJ, Gateway National Recreation Area Final General Management Plan, Review Period Ends: 06/09/2014, Contact: Jennifer Nersesian 718-354-4664.

EIS No. 20140142, Draft Supplement, STB, UT, Six County Association of Governments Proposed Rail Line between Levan and Salina, Comment Period Ends: 06/23/2014, Contact: Phillis Johnson-Ball 202-245-0304.

EIS No. 20140143, Draft EIS, BR, CA, Contra Loma Reservoir and Recreation Area Resource Management Plan, Comment Period Ends: 07/02/2014, Contact: David Woolley 559-487-5049.

EIS No. 20140144, Draft EIS, USMC, BR, CA, Santa Margarita River Conjunctive Use Project, Comment Period Ends: 06/23/2014, Contact: Kristin Thomas 760-725-9741.

The U.S. Department of Defense's Marine Corps and the U.S. Department of the Interior's Bureau of Reclamation are joint lead agencies for the above project.

EIS No. 20140145, Final EIS, USFS, CO, Cumbres Vegetation Management Project, Review Period Ends: 06/20/2014, Contact: Diana McGinn 719-852-6241.

Amended Notices

EIS No. 20140086, Draft EIS, USFS, ID, Upper North Fork HFRA Ecosystem Restoration Project, Comment Period Ends: 05/05/2014, Contact: Maggie Seaberg 208-756-2711. Revision to FR Notice Published 3/21/2014; Extending Comment Period from 5/5/2014 to 5/19/2014.

EIS No. 20140087, Final EIS, FHWA, TX, Trinity Parkway, From IH-35E/SH-183 to US-17/SH-310, Review Period Ends: 05/09/2014, Contact: Salvador Deocampo 512-536-5950. Revision to the FR Notice Published 3/21/2014; Extending Review Period from 05/05/2014 to 05/09/2014.

Dated: May 6, 2014.
Cliff Rader,
Director, NEPA Compliance Division, Office of Federal Activities.

[FR Doc. 2014-10681 Filed 5-8-14; 8:45 am]

BILLING CODE 6560-50-P